INTERNATIONAL TRADE COMMISSION

[Investigation No. 1205-11]

Proposed Recommendations Relating to Recommended Modifications in the Harmonized Tariff Schedule To Conform With Amendments to the Harmonized System Recommended by the World Customs Organization, and To Address Other Matters

AGENCY: United States International Trade Commission.

ACTION: Notice of “proposed recommendations” and solicitation of public comments.

SUMMARY: The Commission's “proposed recommendations” relating to Investigation No. 1205-11 have been posted on the Commission Web site. Interested Federal agencies and the public are invited to submit written comments on the “proposed recommendations” by April 20, 2015.

DATES: April 20, 2015: Deadline for interested Federal agencies and the public to file written views on the Commission's “proposed recommendations.” July 31, 2015: Transmittal of the Commission's report to the President.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Daniel P. Shepherdson, Attorney-Advisor, Office of Tariff Affairs and Trade Agreements (202-205-2598, or Daniel.Shepherdson@usitc.gov) or John Kitzmiller, Nomenclature Analyst, Office of Tariff Affairs and Trade Agreements (202-205-3387, or John.Kitzmiller@usitc.gov). The media should contact Margaret O'Laughlin, Office of External Relations (202-205-1819, or Margaret.OLaughlin@usitc.gov). Hearing-impaired individuals may obtain information on this matter by contacting the Commission's TDD terminal at 202-205-1810. General information about the Commission may be obtained by accessing the Commission Web site at www.usitc.gov. Persons with mobility impairments who will need special assistance in gaining access to the Commission should contact the Office of the Secretary at 202-205-2000.

Background: On August 20, 2014, the Commission instituted Investigation No. 1205-11, Recommended Modifications in the Harmonized Tariff Schedule to Conform with Amendments to the Harmonized System Recommended by the World Customs Organization, and to Address Other Matters, pursuant to section 1205 of the Omnibus Trade and Competitiveness Act of 1988 (the Trade Act of 1988) (19 U.S.C. 3005), for purposes of recommending to the President possible modifications in the Harmonized Tariff Schedule of the United States (HTS) (79 FR. 50943, Aug. 26, 2014).

The modifications under consideration concern: (1) The World Customs Organization's (WCO) Recommendation of June 27, 2014 that Contracting Parties to the International Convention on the Harmonized Commodity Description and Coding System (Convention) modify their tariff schedules to conform with amendments to the Harmonized System expected to enter into force on January 1, 2017; and (2) whether one of the two HTS subheadings that apply to taro (also known as dasheen) should be deleted, and whether the HTS nomenclature for corned beef should be provided for under a superior subheading for cured meat of bovine animals.

Section 1205(b) of the Trade Act of 1988 provides that, in formulating recommendations under section 1205(a), the Commission shall solicit, and give consideration to, the views of interested Federal agencies and the public. Section 1205(b) further provides that, for the purposes of obtaining public views, the Commission shall give notice of “proposed recommendations” and afford reasonable opportunity for interested parties to present their views in writing, particularly as to whether any of the proposed recommendations would have an economic effect on an industry in the United States.

The Commission has posted its “proposed recommendations” relating to the investigation on the Commission Web site at http://www.usitc.gov/tariff_affairs.htm. Interested Federal agencies and the public are invited to submit written comments on the “proposed recommendations” by April 20, 2015.

After considering written public comments, the Commission will prepare and submit to the President a report in accordance with section 1205(c) of the Trade Act of 1988. The Commission expects to submit its report on July 31, 2015.

Written Submissions: Interested parties are invited to file written submissions concerning the “proposed recommendations.” All written submissions should be addressed to the Secretary, and should be received not later than 5:15 p.m., April 20, 2015. All written submissions must conform with the provisions of § 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted. (See the following paragraph for further information regarding confidential business information.) Persons with questions regarding electronic filing should contact the Secretary (202-205-2000).

Any submissions that contain confidential business information (CBI) must also conform with the requirements of § 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

The Commission may include some or all of the confidential business information submitted in the course of this investigation in the report it sends to the President and the U.S. Trade Representative. The Commission will not otherwise publish any confidential business information in a manner that would reveal the operations of the firm supplying the information.

By order of the Commission.
Issued: February 11, 2015.
Lisa Barton,
Secretary to the Commission.

[FR Doc. 2015-03236 Filed 2-17-15; 8:45 am]

BILLING CODE 7020-02-P